DEPARTMENT OF COMMERCE

National Oceanic and Atmospheric Administration

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a public meeting of the Scientific Uncertainty Subcommittee of the Scientific and Statistical Committee.

DATES: The meeting will be held on Tuesday, February 23, 2016, beginning at 10 a.m. and conclude by 4 p.m. For agenda details, see SUPPLEMENTARY INFORMATION.

ADDRESSES: The meeting will at the DoubleTree by Hilton Baltimore-BWI Airport; 890 Elkridge Landing Rd, Linthicum Heights, MD 21090.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of the meeting is to conduct a peer review of recent analyses conducted by the Northeast Regional Stock Assessment Southern Demersal Working Group (SDWG) relative to stock delineation in the population dynamics models being developed for the northern stock (Cape Hatteras, North Carolina to Maine) of black sea bass (Centropristis striata). The results of this review will help guide the SDWG in the treatment of issues related to specification of spatial stock structure in the operating model for this species.

Special Accommodations

This meeting is physically accessible to people with disabilities. Requests for sign language interpretation or other auxiliary aid should be directed to M. Jan Saunders, (302) 526-5251, at least 5 days prior to the meeting date.

Dated: February 2, 2016.
Tracey L. Thompson,
Acting Deputy Director, Office of Sustainable Fisheries, National Marine Fisheries Service.

[FR Doc. 2016-02293 Filed 2-5-16; 8:45 am]

BILLING CODE 3510-22-P